DEPARTMENT OF JUSTICE

Antitrust Division

Notice Pursuant to the National Cooperative Research and Production Act of 1993—National Armaments Consortium

Notice is hereby given that, on July 14, 2020, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Adsys Controls, Inc., Irvine, CA; Aerobotix, Inc., Madison, AL; Affordable Engineering Services, Inc., San Diego, CA; American Rheinmetall Vehicles, LLC, Sterling Heights, MI; Amherst Systems, Inc., Buffalo, NY; Analyst Warehouse, LLC, Hanover, MD; Applied Systems Engineering, Inc., Niceville, FL; Ball Aerospace & Technologies, Corp., Boulder, CO; Caelum Innovations, LLC, Raleigh, NC; Casey Corp Defense, LLC, Stillwater, OK; Cherokee Engineering Services, LLC, Los Lunas, NM; Cutting Edge Machining Solutions, Inc., Drifting, PA; Data Intelligence Technology, Inc., Washington, DC; Davis Strategic Innovations, Inc., Huntsville, AL; DigiFlight Incorporated, Columbia, MD; Diversified Technologies, Inc., Bedford, MA; E&G Associates, Inc., Chattanooga, TN; Exyn Technologies, Inc., Philadelphia, PA; Firefly Photonics, Coralville, IA; Gray Analytics, Huntsville, AL; Harkind Dynamics, LLC, Denver, CO; Innovative Microwave Devices, LLC, Lutherville Timonium, MD; JM Carriere Enterprises, LLC, Sanbornville, NH; KODA Technologies, Inc., Madison, AL; Kopis Mobile, Flowood, MS; Kratos Space and Missile Defense Systems, Glen Burnie, MD; LSINC Corporation, Huntsville, AL; Microwave Applications Group, Santa Maria, CA; MilDef, Inc., Brea, CA; Mobile Frontiers, LLC, Vienna, VA; MSI Defense Solutions, LLC, Mooresville, NC; Nahsai, LLC, Houston, TX; NAVSYS Corporation, Colorado Springs, CO; Orolia Government Systems, Inc., Rochester, NY; Presagis USA, Inc., Orlando, FL; RIX Industries, Benicia, CA; Spark Insights, LLC, Tampa, FL; Tech Wizards, Inc., Newburg, MD; The Intelligence & Security Academy, LLC, (ISA), Arlington, VA; TMD Defense and Space, LLC, El Paso, TX; Trident World Systems, Inc., Madison, AL; University of Arizona Applied Research Corporation, Tucson, AZ; and Zmicro, San Diego, CA, have been added as parties to this venture.

Also, Advanced Technology and Research Corporation, Columbia, MD; Alakai Defense Systems, Inc., Largo, FL; Cincinnati Automation & Mechatronics, LLC, Beavercreek, OH; Elbit Systems of America-Night Vision, Roanoke, VA; Equinox Corporation, New York, NY; Eutectix, LLC, Troy, MI; Fairlead Integrated, LLC, Portsmouth, VA; Global Tungsten and Powders Corporation, Towanda, PA; Hydroid, Inc., Pocasset, MA; JM Carriere Enterprises, LLC, Sanbornville, NH; New Horizons Foundation, Hobbs, NM; nMeta, LLC, New Orleans, LA; Optical Coating Laboratory, LLC, aka Viavi Solutions, Santa Rosa, CA; Plus Designs, Inc., Haveford, PA; Redstone Aerospace Corporation, Longmont, CO; River Front Services, Incorporated, Chantilly, VA; Solid Innovations, LLC, East Stroudsburg, PA; Space Vector Corporation, Chatsworth, CA; and Virtual Sandtable, LLC, (vST), Las Vegas, NV, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on April 15, 2020. A notice was published in the Federal Register pursuant to Section 6(b) of the Act on May 5, 2020 (85 FR 26712).

Suzanne Morris,
Chief, Premerger and Division Statistics, Antitrust Division.

[FR Doc. 2020-16661 Filed 7-30-20; 8:45 am]

BILLING CODE 4410-11-P